DEPARTMENT OF TRANSPORTATION

Federal Aviation Administration

Advisory Circular 25.775-1, Windows and Windshields

AGENCY: Federal Aviation Administration, DOT.

ACTION: Notice of issuance of advisory circular.

SUMMARY: This notice announces the issuance of Advisory Circular (AC) 25.775-1, “Windows and Windshields.” This AC sets forth an acceptable means, but not the only means, of demonstrating compliance with the provisions of Title 14, Code of Federal Regulations (14 CFR), part 25, related to the certification requirements for windows, windshields, and mounting structures for transport category airplanes. Like all ACs, it is not regulatory but provides guidance for applicants in demonstrating compliance with the objective safety standards set forth in the rule.

DATES: Advisory Circular 25.775-1 was issued by the Manager, Transport Airplane Directorate, Aircraft Certification Service, on January 17, 2003.

FOR FURTHER INFORMATION CONTACT: Rich Yarges, FAA, Airframe/Cabin Safety Branch, ANM-115, Transport Airplane Directorate, 1601 Lind Avenue SW., Renton, WA 98055-4056; telephone (425) 227-2143; facsimile (425) 227-1320, e-mail rich.yarges@faa.gov.

SUPPLEMENTARY INFORMATION:

How To Obtain a Copy of the AC

How To Obtain Copies: Copies of this AC can be found and downloaded from the Internet at http:/­/www.faa.gov/regulatoryAdvisory/ac_index.htm/. You may also go to the Regulatory and Guidance Library Web site at http://www.airweb.faa.gov/rgl, at the link titled “Advisory Circulars.” Paper copies of the AC will be available in approximately 6-8 weeks from the U.S. Department of Transportation, Subsequent Distribution Office, SVC-121.23, Ardmore East Business Center, 3341 Q 75th Avenue, Landover, MD 20785.

Issued in Renton, Washington, on January 17, 2003.
Vi L. Lipski,
Manager, Transport Airplane Directorate, Aircraft Certification Service.

[FR Doc. 03-2927 Filed 2-5-03; 8:45 am]

BILLING CODE 4910-13-M